DEPARTMENT OF ENERGY

Federal Energy Regulatory Commission

[Project No. 15302-001]

LinkPast Solutions, Inc.; Notice of Preliminary Permit Application Accepted for Filing and Soliciting Comments, Motions To Intervene, and Competing Applications

On June 26, 2023, LinkPast Solutions, Inc., filed an application for a preliminary permit, pursuant to section 4(f) of the Federal Power Act (FPA), proposing to study the feasibility of hydropower on the Black River in Jefferson County, New York. The sole purpose of a preliminary permit, if issued, is to grant the permit holder priority to file a license application during the permit term. A preliminary permit does not authorize the permit holder to perform any land-disturbing activities or otherwise enter upon lands or waters owned by others without the owners' express permission.

The proposed Sewalls Island Hydro Project would be located on the North Channel of the Black River at Sewalls Island in Watertown, New York. The proposed project would operate with flows below the minimum and above the maximum hydraulic capacities of Erie Boulevard Hydropower, L.P.'s Sewalls Development of the Black River Hydroelectric Project No. P-2569 (Sewalls Development). The Sewalls Development consists of two dams—a 90-foot-long, 18.5-foot-high concrete gravity dam on the North Channel of Sewalls Island (North Channel dam) and a 243-foot-long, 15.5-foot-high concrete gravity dam on the South Channel of Sewalls Island. A 4-acre reservoir with a storage capacity of 48-acre-feet at an elevation of 466.45 feet National Geodetic Vertical Datum of 1929 was created by the dams.

The proposed project would consist of the following: (1) two new powerhouses—a 70-foot-long by 30-foot-wide reinforced concrete powerhouse at the North Channel dam (powerhouse #1) and a 60-foot-long, 40-foot-wide reinforced concrete powerhouse downstream on the North Channel at the lower end of Sewalls Island (powerhouse #2); (2) a new 70-foot-long, 25-foot-wide integral intake structure at the North Channel dam for use by both powerhouses; (3) a new 12.5-foot-diameter, 1,250-foot-long steel and concrete penstock for conveying water to powerhouse #2 that would involve the demolition of the existing 80-foot-long, 16-foot-high Black Clawson Dam on the western tip of the island in the North Channel; (4) an axial flow vertical turbine-generator unit with an installed capacity of 3,600 kilowatts (kW) and a micro turbine-generator unit with an installed capacity of 15.7 kW housed in powerhouse #1; (5) one or more axial flow vertical turbine-generator unit(s) with a total installed capacity of 5,500 kW housed in powerhouse #2; (6) a new approximately 120-foot-long access road for powerhouse #1 and a new approximately 320-foot-long access road for powerhouse #2; (7) a new 1,900-foot-long, 23-kilovolt (kV) transmission line connecting the powerhouses to the existing switchyard of the Black River Project's Sewalls Development (option 1) or a new 4,270-foot-long, 23-kV transmission line connecting the powerhouses to a switchyard adjacent to the New York Airbrake Manufacturing plant; and (8) appurtenant facilities. The proposed project would have an average annual generation of approximately 2,245 megawatt-hours.

Applicant Contact: Brian McArthur, LinkPast Solutions, Inc., P.O. Box 5474, Clark, NJ 07066; phone: (848) 628-4414.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

More information about this project, including a copy of the application, can be viewed or printed on the “eLibrary” link of the Commission's website at https://elibrary.ferc.gov/eLibrary/search. Enter the docket number (P-15302) in the docket number field to access the document. For assistance, contact FERC Online Support.

Dated: December 14, 2023.
Debbie-Anne A. Reese,
Deputy Secretary.

[FR Doc. 2023-27979 Filed 12-19-23; 8:45 am]

BILLING CODE 6717-01-P